DEPARTMENT OF HOMELAND SECURITY

Federal Emergency Management Agency

[Docket ID FEMA-2025-0002]

Changes in Flood Hazard Determinations

AGENCY: Federal Emergency Management Agency, Department of Homeland Security.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Risk Analysis, Planning & Information Directorate, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65. The current effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Kristin E. Fontenot,
Assistant Administrator, Risk Analysis, Planning & Information Directorate, Federal Emergency Management Agency, Department of Homeland Security.

State and county | Location and case No. | Chief executive officer of community | Community map repository | Date of modification | Community No.
Alabama:
Jefferson (FEMA Docket No: B-2488) | City of Birmingham (24-04-3190P). | The Honorable Randall Woodfin, Mayor, City of Birmingham, 710 North 20th Street, 3rd Floor, Birmingham, AL 35203. | City Hall, 710 North 20th Street, Room 500, Birmingham, AL 35203. | Mar. 13, 2025 | 010116
Jefferson (FEMA Docket No: B-2488) | City of Mountain Brook (24-04-3190P). | The Honorable Stewart Welch, III, Mayor, City of Mountain Brook, P.O. Box 130009, Mountain Brook, AL 35213. | City Hall, 56 Church Street, Mountain Brook, AL 35213. | Mar. 13, 2025 | 010128
California:
Orange (FEMA Docket, No.: B-2472) | City of Anaheim (24-09-1187X). | The Honorable Ashleigh Aitken, Mayor, City of Anaheim, 200 South Anaheim Boulevard, 7th Floor, Anaheim, CA 92805. | City Hall, 200 South Anaheim Boulevard, Anaheim, CA 92805. | Feb. 14, 2025 | 060213
Orange (FEMA Docket No.: B-2472) | City of Placentia (24-09-1187X). | The Honorable Jeremy B. Yamaguchi, Mayor, City of Placentia, 401 East Chapman Avenue, Placentia, CA 92870. | Development Services Department, 401 East Chapman Avenue, Placentia, CA 92870. | Feb. 14, 2025 | 060229
Florida:
Bay (FEMA Docket No.: B-2479) | Unincorporated areas of Bay County (24-04-0085P). | Tommy Hamm, Chair, Bay County Board of Commissioners, 840 West 11th Street, Panama City, FL 32401. | Bay County Planning and Zoning Department, 840 West 11th Street, Panama City, FL 32401. | Mar. 10, 2025 | 120004
Flagler (FEMA Docket No.: B-2479) | City of Bunnell (24-04-3318P). | The Honorable Catherine Robinson, Mayor, City of Bunnell, 604 East Moody Boulevard, Suite 4, Bunnell, TX 32110. | City Hall, 604 East Moody Boulevard, Suite 6, Bunnell, TX 32110. | Mar. 6, 2025 | 120086
Manatee | Unincorporated areas of Manatee County (24-04-3397P). | Charlie Bishop, Manatee County Administrator, 1112 Manatee Avenue West, Bradenton, FL 34205. | Manatee County Administration Building, 1112 Manatee Avenue West, Bradenton, FL 34205. | Feb. 14, 2025 | 120153
Monroe | Village of Islamorada (24-04-4610P). | The Honorable Joseph Buddy Pinder III, Mayor, Village of Islamorada, 86800 Overseas Highway, Islamorada, FL 33036. | Building Department, 86800 Overseas Highway, Islamorada, FL 33036. | Feb. 7, 2025 | 120424
Orange (FEMA Docket No.: B-2467) | Unincorporated areas of Orange County (23-04-6249P). | The Honorable Jerry L. Demings, Mayor, Orange County, 201 South Rosalind Avenue, 5th Floor, Orlando, FL 32801. | Orange County Public Works Department, Stormwater Management Division, 4200 South John Young Parkway, Orlando, FL 32839. | Jan. 31, 2025 | 120179
Illinois: McHenry (FEMA Docket No.: B-2472) | Village of Algonquin (24-05-0682P). | Debby Sosine, President, Village of Algonquin, 2200 Harnish Drive, Algonquin, IL 60102. | Village Hall, 2200 Harnish Drive, Algonquin, IL 60102. | Feb. 24, 2025 | 170474
Indiana:
Tippecanoe (FEMA Docket No.: B-2472) | City of West Lafayette (23-05-0732P). | The Honorable Erin Easter, Mayor, City of West Lafayette, 222 North Chauncey Avenue, West Lafayette, IN 47906. | City Hall, 222 North Chauncey Avenue, West Lafayette, IN 47906. | Feb. 18, 2025 | 180254
Tippecanoe (FEMA Docket No.: B-2472) | Unincorporated areas of Tippecanoe County (23-05-0732P). | The Honorable Tracy Brown, President, Tippecanoe County Board of Commissioners, 20 North 3rd Street, 1st Floor, Lafayette, IN 47901. | Tippecanoe County Administration Building, 20 North 3rd Street, Lafayette, IN 47901. | Feb. 18, 2025 | 180428
Kentucky: Fayette (FEMA Docket No.: B-2472) | Lexington-Fayette Urban County Government (23-04-6269P). | The Honorable Linda Gorton, Mayor, Lexington-Fayette Urban County Government, 200 East Main Street, Lexington, KY 40507. | Fayette County Phoenix Building, 101 East Vine Street, 4th Floor, Lexington, KY 40507. | Feb. 18, 2025 | 210067
Minnesota:
Dodge (FEMA Docket No.: B-2472) | City of Mantorville (24-05-1406P). | The Honorable Chuck Bradford, Mayor, City of Mantorville, P.O. Box 188, Mantorville, MN 55955. | City Hall, 21 5th Street East, Mantorville, MN 55955. | Feb. 7, 2025 | 270585
Dodge (FEMA Docket No.: B-2472) | Unincorporated areas of Dodge County (24-05-1406P). | Rodney Peterson, Commissioner, District 3, Dodge County Board of Commissioners, 721 Main Street North, Department 31, Mantorville, MN 55955. | Dodge County Environmental Services Department, 721 Main Street North, Department 123, Mantorville, MN 55955. | Feb. 7, 2025 | 270548
Missouri: Johnson (FEMA Docket No.: B-2472) | City of Holden (24-07-0417P). | The Honorable Ray Briscoe, Mayor, City of Holden, 101 West 3rd Street, Holden, MO 64040. | City Hall, 101 West 3rd Street, Holden, MO 64040. | Feb. 10, 2025 | 290714
North Carolina:
Cumberland (FEMA Docket No.: B-2488) | Unincorporated areas of Cumberland County (24-04-0875P). | Kirk DeViere, Chair, Cumberland County Board of Commissioners, P.O. Box 1829, Fayetteville, NC 28302. | Cumberland County Planning and Inspections Department, 130 Gillespie Street, Fayetteville, NC 28301. | Mar. 12, 2025 | 370076
Harnett (FEMA Docket No.: B-2488) | Unincorporated areas of Harnett County (24-04-0875P). | Matt Nicol, Chair, Harnett County Board of Commissioners, P.O. Box 759, Lillington, NC 27546. | Harnett County Development Services Department, 420 McKinney Parkway, Lillington, NC 27546. | Mar. 12, 2025 | 370328
Iredell (FEMA Docket No.: B-2472) | Town of Mooresville (24-04-1233P) | The Honorable Chris Carney, Mayor, Town of Mooresville, 413 North Main Street Mooresville, NC 28815. | Planning Department, 413 North Main Street, Mooresville, NC 28815. | Jan. 27, 2025 | 370314
Union (FEMA Docket No.: B-2472) | City of Monroe (24-04-2810P). | The Honorable Robert Burns, Mayor, City of Monroe, 300 West Corwell Street Monroe, NC 28112. | City Hall, 300 West Corwell Street, Monroe, NC 28112. | Jan. 28, 2025 | 370236
Oklahoma: Cleveland (FEMA Docket No.: B-2479) | City of Moore (24-06-0300P). | The Honorable Mark Hamm, Mayor, City of Moore , 301 North Broadway Avenue, Moore, OK 73160. | City Hall, 301 North Broadway Avenue, Moore, OK 73160. | Feb. 20, 2025 | 400044
South Carolina: Richland (FEMA Docket No.: B-2472) | City of Columbia (24-04-5321P). | The Honorable Daniel J. Rickenmann, Mayor, City of Columbia, 1737 Main Street, Columbia, SC 29201. | City Hall, 1737 Main Street, Columbia, SC 29201. | Feb. 18, 2025 | 450172
Texas:
Bexar (FEMA Docket No.: B-2488) | City of San Antonio (24-06-0419P). | The Honorable Ron Nirenberg, Mayor, City of San Antonio, P.O. Box 839966, San Antonio, TX 78283. | Department of Public Works, Storm Water Division, 1901 South Alamo Street, 2nd Floor, San Antonio, TX 78204. | Mar. 10, 2025 | 480045
Bexar (FEMA Docket No.: B-2488) | Unincorporated areas of Bexar County (24-06-2212P). | The Honorable Peter Sakai, Bexar County Judge, 101 West Nueva Street, 10th Floor, San Antonio, TX 78205. | Bexar County Public Works Department, 1948 Probandt Street, San Antonio, TX 78214. | Feb. 24, 2025 | 480035
Collin (FEMA Docket No.: B-2479) | City of McKinney (24-06-0596P). | The Honorable George Fuller, Mayor, City of McKinney, 222 North Tennessee Street, McKinney, TX 75069. | Engineering Department, 222 North Tennessee Street, McKinney, TX 75069. | Feb. 24, 2025 | 480135
Denton (FEMA Docket No.: B-2467) | City of Carrollton (23-06-1374P). | The Honorable Steve Babick, Mayor, City of Carrollton, 1945 East Jackson Road, Carrollton, TX 75006. | City Hall, 1945 East Jackson Road, Carrollton, TX 75006. | Feb. 4, 2025 | 480167
Denton (FEMA Docket No.: B-2467) | City of Lewisville (23-06-1374P). | The Honorable T.J. Gilmore, Mayor, City of Lewisville, 151 West Church Street, Lewisville, TX 75057. | City Hall, 151 West Church Street, Lewisville, TX 75057. | Feb. 4, 2025 | 480195
Denton (FEMA Docket No.: B-2472) | City of Fort Worth (24-06-1006P). | The Honorable Mattie Parker, Mayor, City of Fort Worth, 200 Texas Street, Fort Worth, TX 76102. | Department of Transportation and Public Works, Engineering Vault and Map Repository, 200 Texas Street, Fort Worth, TX 76102. | Feb. 10, 2025 | 480596
Denton (FEMA Docket No.: B-2472) | Town of Northlake (24-06-1006P). | Drew Corn, Manager, Town of Northlake, 1500 Commons Circle, Suite 300, Northlake, TX 76226. | Development Services Department, 1700 Commons Circle, Suite 200, Northlake, TX 76226. | Feb. 10, 2025 | 480782
Denton (FEMA Docket No.: B-2472) | Unincorporated areas of Denton County (24-06-1006P). | The Honorable Andy Eads, Denton County Judge, 1 Courthouse Drive, Suite 3100, Denton, TX 76208. | Denton County Development Services Department, 3900 Morse Street, Denton, TX 76208. | Feb. 10, 2025 | 480774
Denton (FEMA Docket No.: B-2472) | Unincorporated areas of Denton County (24-06-2149P). | The Honorable Andy Eads, Denton County Judge, 1 Courthouse Drive, Suite 3100, Denton, TX 76208. | Denton County Development Services Department, 3900 Morse Street, Denton, TX 76208. | Feb. 18, 2025 | 480774
Guadalupe (FEMA Docket No.: B-2479) | City of Cibolo (23-06-2228P). | The Honorable Mark Allen, Mayor, City of Cibolo, 200 South Main Street, Cibolo, TX 78108. | City Hall, 200 South Main Street, Cibolo, TX 78108. | Mar. 6, 2025 | 480267
Navarro (FEMA Docket No.: B-2472) | City of Corsicana (23-06-2188P). | The Honorable Mike Fletcher, Mayor, City of Corsicana, 200 North 12th Street, Corsicana, TX 75110. | City Hall, 200 North 12th Street, Corsicana, TX 75110. | Feb. 5, 2025 | 480498
Navarro (FEMA Docket No.: B-2472) | Unincorporated areas of Navarro County (23-06-2188P). | The Honorable H.M. Davenport, Jr., Navarro County Judge, 300 West 3rd Avenue, Suite 102, Corsicana, TX 75110. | Navarro County Courthouse, 300 West 3rd Avenue, Corsicana, TX 75110. | Feb. 5, 2025 | 480950
Taylor (FEMA Docket No.: B-2472) | Unincorporated areas of Taylor County (24-06-0933P). | The Honorable Phil Crowley, Taylor County Judge, 400 Oak Street, Suite 300, Abilene, TX 79602. | Taylor County Administration Building, 400 Oak Street, Suite 300, Abilene, TX 79602. | Feb. 4, 2025 | 481014
Wisconsin: Waupaca (FEMA Docket No.: B-2472) | Unincorporated areas of Waupaca County (24-05-1652P). | David Morack, Chair, Waupaca County Board of Supervisors, 811 Harding Street, Waupaca, WI 54981. | Waupaca County Courthouse, 811 Harding Street, Waupaca, WI 54981. | Feb. 21, 2025 | 550492
Wyoming: Teton (FEMA Docket, No.: B-2479) | Unincorporated areas of Teton County (23-08-0788P). | Luther Propst, Chair, Teton County Board of Commissioners, P.O. Box 3594, Jackson, WY 83001. | Teton County Engineering Department, 320 South King Street, Jackson, WY 83001. | Feb. 14, 2025 | 560094

[FR Doc. 2025-05124 Filed 3-25-25; 8:45 am]

BILLING CODE 9110-12-P